DEPARTMENT OF ENERGY

Federal Energy Regulatory Commission

[Docket No. IC01-546-001, FERC-546]

Information Collection Submitted for Review and Request for Comments

June 28, 2001.

AGENCY: Federal Energy Regulatory Commission, DOE.

ACTION: Notice of submission for review by the Office of Management and Budget (OMB) and request for comments.

SUMMARY: The Federal Energy Regulatory Commission (Commission) has submitted the energy information collection listed in this notice to the Office of Management and Budget (OMB) for review under the provisions of Section 3507 of the Paperwork Reduction Act of 1995 (Pub. L. 104-13). Any interested person may file comments on the collection of information directly with OMB and should address a copy of those comments to the Commission as explained below. The Commission did not receive any comments in response to an earlier Federal Register notice of December 26, 2000 (65 FR 81517-18) and has made a notation in this submission.

DATES: Comments regarding this collection of information are best assured of having their full effect if received on or before August 6, 2001.

ADDRESSES: Address comments to the Office of Management and Budget, Office of Information and Regulatory Affairs, Attention: Federal Energy Regulatory Commission Desk Officer, Room 10202 NEOB, 725 17th Street, NW., Washington DC 20503. A copy of the comments should also be sent to Federal Energy Regulatory Commission, Office of the Chief Information Officer, Attention: Michael Miller, CI-1, 888 First Street NE., Washington, DC 20426.

FOR FURTHER INFORMATION CONTACT: Michael Miller may be reached by telephone at (202) 208-1415, by fax at (202) 208-1415, and by e-mail at mike.miller@ferc.fed.us.

SUPPLEMENTARY INFORMATION:

Description

The energy information collection submitted to OMB for review contains:

1. Collection of Information: FERC-546 “Certificated Rate Filings: Gas Pipeline Rates”.

2. Sponsor: Federal Energy Regulatory Commission.

3. Control No.: 1902-0155. The Commission is requesting reinstatement, without change, of the previously approved data collection for which approval expired January 31, 2001, and a three-year approval of the collection of data. This is a mandatory information collection requirement.

4. Necessity of Collection of Information: Submission of the information is necessary to enable the Commission to implement the statutory provisions of Title IV of the Natural Gas Policy Act (NGPA), 15 U.S.C. 3301-3432, Pub. L. 95-621) and sections 4, 5, and 16, of the Natural Gas Act (NGA) (15 U.S.C. 717-717o, Pub. L. 75-688). These statutory provisions require natural gas pipeline companies to obtain Commission authorization for all rates and charges made, demanded, or in connection with the transportation or sale of natural gas in interstate commerce. The Commission is authorized to investigate the rates charged by natural gas pipeline companies subject to its investigation. The data filed in certificated rate filings are used to implement new or revised service proposals for the transportation or sale of natural gas and for compliance with subsequent Commission orders. The distinction between FERC-546 and other rate/tariff data collections is that data collected under FERC-546 involve initial service and tariff revisions due to changes in service rather changes in existing rates. The Commission implements these filings requirements in the Code of Federal Regulations (CFR) under 18 CFR 154.4; 154.7; 154.202; 154.204-.209; 154.602-.603.

5. Respondent Description: The respondent universe currently comprises approximately 77 natural gas pipeline companies.

6. Estimated Burden: 12,320 hours, 77 respondents, 308 responses, 40 hours per response. This estimate is a decrease from OMB's previous inventory. The decrease is an adjustment and reflects a reduction in the average number of annual filings from 100 to 77.

Authority: Sect. 4, 5 and 16 of the Natural Gas Act (15 U.S.C. 717-717w) and sect. 403 of the Natural Gas Policy Act (NGPA) (15 U.S. 3393).

David P. Boergers,
Secretary.

[FR Doc. 01-16748 Filed 7-3-01; 8:45 am]

BILLING CODE 6717-01-M